ENVIRONMENTAL PROTECTION AGENCY

[EPA-HQ-OW-2011-0465; FRL 9940-12-OEI]

Information Collection Request Submitted to OMB for Review and Approval; Comment Request; Water Quality Standards Regulation (Renewal)

AGENCY: Environmental Protection Agency (EPA).

ACTION: Notice.

SUMMARY: The Environmental Protection Agency has submitted an information collection request (ICR), “Water Quality Standards Regulation (Renewal)” (EPA ICR No. 0988.12, OMB Control No. 2040-0049) to the Office of Management and Budget (OMB) for review and approval in accordance with the Paperwork Reduction Act (44 U.S.C. 3501 et seq.). This is a proposed extension of the ICR, which is currently approved through December 31, 2015. Public comments were previously requested via the Federal Register (80 FR 37616 on July 1, 2015), during a 60-day comment period. This notice allows for an additional 30 days for public comments. A fuller description of the ICR is given below. An Agency may not conduct or sponsor and a person is not required to respond to a collection of information unless it displays a currently valid OMB control number.

DATES: Additional comments may be submitted on or before January 15, 2016.

ADDRESSES: Submit your comments, referencing Docket ID No. EPA-HQ-OW-2011-0465, online using www.regulations.gov (our preferred method), by email to ow-docket@epa.gov, or by mail to: EPA Docket Center, Environmental Protection Agency, Mail Code 28221T, 1200 Pennsylvania Ave. NW., Washington, DC 20460.

EPA's policy is that all comments received will be included in the public docket without change including any personal information provided, unless the comment includes profanity, threats, information claimed to be Confidential Business Information (CBI) or other information whose disclosure is restricted by statute.

FOR FURTHER INFORMATION CONTACT: Tangela Cooper, Office of Water, Office of Science and Technology, Standards and Health Protection Division, (4305T), Environmental Protection Agency, 1200 Pennsylvania Ave. NW., Washington, DC 20460; telephone number: 202-566-0369; email address: cooper.tangela@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW., Washington, DC. The telephone number for the Docket Center is 202-566-1744. For additional information about EPA's public docket, visit http://www.epa.gov/dockets.

Abstract: Water quality standards are provisions of state, tribal, and federal law that consist of designated uses for waters of the United States, water quality criteria to protect the designated uses, and an antidegradation policy. Section 303(c) of the Clean Water Act requires states and authorized tribes to establish water quality standards, and to review and, if appropriate, revise their water quality standards once every three years. The Act also requires EPA to review and either approve or disapprove the new or revised standards, and to promulgate replacement federal standards if necessary. Section 118(c)(2) of the Act specifies additional water quality standards requirements for waters of the Great Lakes system.

The Water Quality Standards Regulation (40 CFR part 131 and portions of part 132) governs national implementation of the water quality standards program. The Regulation describes requirements and procedures for states and authorized tribes to develop, review, and revise their water quality standards, and EPA procedures for reviewing and approving the water quality standards. The regulation also establishes specific additional requirements for water quality standards and their implementation in the waters of the Great Lakes system, contained in the Water Quality Guidance for the Great Lakes System (40 CFR part 132).

Form Numbers: None.

Respondents/affected entities: States, territories, and Indian tribes with EPA-approved standards; NPDES-permitted facilities that discharge into the Great Lakes.

Respondent's obligation to respond: Mandatory or required to obtain or retain a benefit, pursuant to 40 CFR parts 131 and 132.

Estimated number of respondents: 2,787 (total).

Frequency of response: Generally annual.

Total estimated burden: 292,305 hours (per year). Burden is defined at 5 CFR 1320.03(b).

Total estimated cost: $13,579,575 (per year). There are no annualized capital or operation & maintenance costs.

Changes in Estimates: There is an increase of 15,324 hours in the total estimated respondent burden compared with the ICR currently approved by OMB. This increase reflects an increase in the estimated number of respondents to reflect EPA's approval of water quality standards for four additional tribes, and minor adjustments to reflect updated estimates of Great Lakes activities.

Courtney Kerwin,
Acting Director, Collection Strategies Division.

[FR Doc. 2015-31538 Filed 12-15-15; 8:45 am]

BILLING CODE 6560-50-P